DEPARTMENT OF THE INTERIOR

National Park Service

[NPS-WASO-NAGPRA-19979; PPWOCRADN0-PCU00RP14.R50000]

Notice of Inventory Completion: U.S. Department of Defense, Army Corps of Engineers, Charleston District, Charleston, SC; Correction

AGENCY: National Park Service, Interior.

ACTION: Notice; correction.

SUMMARY: The U.S. Army Corps of Engineers, Charleston District has corrected an inventory of human remains and associated funerary objects published in a Notice of Inventory Completion in the Federal Register on March 16, 2015. This notice corrects the number of associated funerary objects.

DATES: Lineal descendants or representatives of any Indian tribe or Native Hawaiian organization not identified in this notice that wish to request transfer of control of these human remains and associated funerary objects should submit a written request with information in support of the request to the Charleston District at the address in this notice by February 26, 2016.

ADDRESSES: Mr. Alan Shirey, U.S. Army Corps of Engineers, Charleston District, ATTN: CESAC-PM-PL, 69A Hagood Avenue, Charleston, SC 29403-5107, telephone (843) 329-8166, email alan.d.shirey@usace.army.mil.

SUPPLEMENTARY INFORMATION: Notice is here given in accordance with the Native American Graves Protection and Repatriation Act (NAGPRA), 25 U.S.C. 3003, of the correction of an inventory of human remains and associated funerary objects under the control of the Charleston District of the U.S. Army Corp of Engineers. The human remains and associated funerary objects were removed from Berkeley County, SC.

This notice is published as part of the National Park Service's administrative responsibilities under NAGPRA, 25 U.S.C. 3003(d)(3). The determinations in this notice are the sole responsibility of the museum, institution, or Federal agency that has control of the Native American human remains and associated funerary objects The National Park Service is not responsible for the determinations in this notice.

This notice corrects the number of associated funerary objects published in a Notice of Inventory Completion in the Federal Register (80 FR 13614, March 16, 2015). Additional boxes of material that contained associated funerary objects were identified by the repository after the original inventory. These items were inventoried in March 2015, after the publication of the initial Notice. Transfer of control of the items in this correction notice has not occurred.

Correction

In the Federal Register (80 FR 13615, March 16, 2015), column 1, sentence 6, under the heading “History and Description of the Remains,” is corrected by substituting the following sentence:

The 113,227 associated funerary objects are 3 beads, 323 ceramic sherds, 350 concretions, 106,771 faunal fragments, 60 fossils (shell and coral), 2,281 lithic flakes (orthoquartzite, chert, and quartz), 23 lithic tool fragments, 29 lots of faunal fragments, 95 lots of screened material, 99 soil samples, 228 lots of processed flotation. 4 lots of phytolith samples, 25 organics (wood, seeds, and snail shell), 1 piece of groundstone, 2,569 pieces of miscellaneous stone/pebbles, 97 pieces of charcoal, 1 glass fragment, 10 shell fragments, and 258 pieces of ochre (red and yellow).

In the Federal Register (80 FR 13615, March 16, 2015), column 2, bullet 3, is corrected by substituting the following sentence:

Pursuant to 25 U.S.C. 3001(3)(A) the 113,227 objects described in this notice are reasonably believed to have been placed with or near individual human remains at the time of death or later as part of the death rite or ceremony.

Additional Requestors and Disposition

Lineal descendants or representatives of any Indian tribe or Native Hawaiian organization not identified in this notice that wish to request transfer of control of these human remains and associated funerary objects should submit a written request with information in support of the request to Mr. Alan Shirey, U.S. Army Corps of Engineers, Charleston District, ATTN: CESAC-PM-PL, 69A Hagood Avenue, Charleston, SC 29403-5107, telephone (843) 329-8166, email alan.d.shirey@usace.army.mil by February 26, 2016. After that date, if no additional requestors have come forward, transfer of control of the human remains and associated funerary objects to the Catawba Indian Nation may proceed.

The Charleston District of the U.S. Army Corp of Engineers is responsible for notifying the Catawba Indian Nation that this notice has been published.

Dated: December 10, 2015.
Melanie O'Brien,
Manager, National NAGPRA Program.

[FR Doc. 2016-01590 Filed 1-26-16; 8:45 am]

BILLING CODE 4312-50-P